DEPARTMENT OF VETERANS AFFAIRS

38 CFR Part 17

RIN 2900-AK89

Civilian Health and Medical Program of the Department of Veterans Affairs (CHAMPVA)

AGENCY: Department of Veterans Affairs

ACTION: Interim final rule; Correction.

SUMMARY: In a document published in the Federal Register on January 30, 2002 (67 FR 4357), VA amended its medical regulations concerning the “Civilian Health and Medical Program of the Department of Veterans Affairs (CHAMPVA)” That interim final rule implemented the provisions of the Floyd D. Spence National Defense Authorization Act for Fiscal Year 2001 and the Veterans' Survivor Benefits Improvements Act of 2001. This document makes a correction in § 17.274(c)(ii) by changing the reference to the effective date of the reduced cost-sharing catastrophic cap from January 1, 2001 to January 1, 2002 to reflect the correct date established by statute.

EFFECTIVE DATE: This document is effective on February 14, 2002.

FOR FURTHER INFORMATION CONTACT: Susan Schmetzer, Chief, Policy & Compliance Division, VA Health Administration Center, P.O. Box 65020, Denver, CO 80206-9020, telephone (303) 331-7552.

In rule FR Doc. 02-2206 published on January 30, 2002 (67 FR 4357), make the following correction: on page 4359, in paragraph (c)(ii), third column, “January 1, 2001” is amended to read “January 1, 2002”.

Approved: February 7, 2002.
Thomas O. Gessel,
Director, Office of Regulations Management, Office of General Counsel, Department of Veterans Affairs.

[FR Doc. 02-3675 Filed 2-13-02; 8:45 am]

BILLING CODE 8320-01-M